DEPARTMENT OF JUSTICE

Notice of Lodging of Consent Decree Under the Comprehensive Environmental Response, Compensation and Liability Act (“CERCLA”)

Pursuant to Section 122(d)(2) of CERCLA, 42 U.S.C. 9622(d)(2), notice is hereby given that on July 6, 2001, a proposed Consent Decree in United States v. Battery Properties, Inc., Civil Action No. 1-01-0009, was lodged with the United States District Court for the Middle District of Tennessee.

In this action the United States sought to recover response costs incurred by the Environmental Protection Agency (“EPA”) during the performance of a response action to address releases and threatened releases of hazardous substances at the Mallory Capacitor Co. Superfund Site (“Site”) in Waynesboro, Wayne County, Tennessee. The Decree resolves the liability of Defendant Battery Properties, Inc. for the United States' past response costs, interim response costs, and future oversight costs. The Defendant will pay $39,149 to the Hazardous Substances Superfund in reimbursement of EPA's response costs at or in connection with the Site through September 30, 1999. The Defendant will pay all response costs incurred between October 1, 1999 and the date of entry of the consent decree. In addition, Defendant will pay EPA's future oversight costs incurred during Defendant's performance under EPA's March 4, 1992 Unilateral Administrative Order for Remedial Design and Remedial Action.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Battery Properties, Inc., DOJ Ref. 90-11-2-733/1.

The Consent Decree may be examined at the Office of the United States Attorney, Middle District of Tennessee, 110 Ninth Avenue, S., Suite A-961, Nashville, Tennessee 37203, and at EPA Region 4, Atlanta Federal Center, 61 Forsyth Street, S.W., Atlanta, Georgia 30303. A copy of the Consent Decree may also be obtained by mail from the Consent Decree Library, P.O. Box 7611, U.S. Department of Justice, Washington DC 20044-7611. In requesting a copy, please refer to United States v. Battery Properties, Inc., Civ. No. 1-01-0009 (M.D. Tenn.), DOJ Ref. 90-11-2-733/1, and enclose a check in the amount of $5.25 (25 cents per page reproduction cost) payable to the Consent Decree Library.

Ellen M. Mahan,
Assistant Section Chief, Environmental Enforcement Section, Environment & Natural Resources Division.

[FR Doc. 01-17879 Filed 7-17-01; 8:45 am]

BILLING CODE 4410-15-M